ENVIRONMENTAL PROTECTION AGENCY

40 CFR Part 52

[EPA-R09-OAR-2006-0590; FRL-8213-4]

Approval and Promulgation of Implementation Plans; Revisions to the Nevada State Implementation Plan; Requests for Rescission

AGENCY: Environmental Protection Agency (EPA).

ACTION: Proposed rule.

SUMMARY: EPA is proposing, under the Clean Air Act, approval of revisions to the applicable state implementation plan for the State of Nevada and disapproval of other revisions. These revisions involve certain regulations and statutes for which the State of Nevada is requesting rescission. EPA is also proposing approval of certain updated statutes submitted by the State of Nevada as replacements for outdated statutes in the applicable plan. The approval proposed herein is contingent upon receipt of certain public notice and hearing documentation from the State of Nevada. EPA is proposing this action under the Clean Air Act obligation to take action on State submittals of revisions to state implementation plans. The intended effect is to rescind unnecessary provisions from the applicable plan, retain necessary provisions, and approve replacement provisions for certain statutes for which rescissions are proposed for disapproval. EPA is taking comments on this proposal and plans to follow with a final action.

DATES: Any comments must arrive by September 27, 2006.

ADDRESSES: Submit comments, identified by docket number EPA-R09-OAR-2006-0590, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Julie Rose, EPA Region IX, (415) 947-4126, rose.julie@epa.gov.

SUPPLEMENTARY INFORMATION: Throughout this document, the terms “we,” “us” and “our” refer to EPA.

Table of Contents

I. The State's Submittal

A. Which rules and statutes did the state submit for rescission?

B. What is the regulatory history of the Nevada SIP?

C. What is the purpose of this proposed rule?

II. EPA's Evaluation and Action

A. How is EPA evaluating the rules and statutes requested for rescission?

B. Do the rescissions meet the evaluation criteria?

C. Public Comment and Proposed Action

III. Statutory and Executive Order Reviews

I. The State's Submittal

A. Which rules and statutes did the state submit for rescission?

The State of Nevada's Department of Conservation and Natural Resources, Division of Environmental Protection (NDEP) submitted a large revision to the applicable SIP on January 12, 2006. This 2006 SIP revision submittal supersedes the regulatory portion of the earlier SIP revision submittal dated February 16, 2005.¹ On March 26, 2006, we found that the Nevada SIP submittal dated January 12, 2006 satisfied the completeness criteria in 40 CFR part 51, appendix V, which must be met before formal EPA review.

¹ The February 16, 2005 SIP submittal also includes documentation of public notice and hearing for new or amended rules. The January 12, 2006 SIP submittal was not a complete re-submittal of the earlier submittal in that it did not include this documentation.

The primary purpose of this SIP revision is to clarify and harmonize the provisions approved by EPA into the applicable SIP with the current provisions adopted by the State. Because this revision incorporates so many changes from the 1970s and 1980s vintage SIP regulations, EPA has decided to review and act on the submittal in a series of separate actions. The first such action was proposed in the Federal Register on September 13, 2005 (70 FR 53975) and finalized on March 27, 2006 (71 FR 15040). The second such action was proposed in the Federal Register on June 9, 2006 (71 FR 33413).

In today's action, we are taking another step in the process of acting on the State's January 12, 2006 SIP revision submittal by proposing action on the State's request for rescission of nearly 200 rules and statutes currently approved in the applicable SIP.² The remaining portions of the submittal will be acted on in future Federal Register actions.

² Of the nearly 200 rules and statutes for which NDEP requests rescission, we are proposing action today on all but 15, including 12 that we are deferring to separate rulemakings and 3 that we plan to take no action on. The rules and statutes that we are deferring include rule 25 of general order number 3 of the Nevada Public Service Commission; article 1.60—Effective date; article 1.72—Existing facility; NAC 445.535—Kilogram-calorie; NAC 445.655 Abbreviations; article 13.1.3(3) [related to minor source BACT]; article 16.3.3.1—Opacity from kilns; NAC 445.667—Excess emissions: scheduled maintenance, testing, malfunctions; NAC 445.694—Emission discharge information; NAC 445.706(2)—Application date; payment of fees; NAC 445.715—Operation permits: revocation; and NRS 704.820 to 704.900—Construction of utility facilities: utility environmental protection act. We do not plan to take action on article 1.207—vehicle trip, article 14 (14.1 to 14.5.1.4)—supplementary control system (submitted June 14, 1974), and article 14.1—supplementary control system (submitted November 17, 1981) because they are not in the applicable SIP.

B. What is the regulatory history of the Nevada SIP?

Pursuant to the Clean Air Amendments of 1970, the Governor of Nevada submitted the original Nevada SIP to EPA in January 1972. EPA approved certain portions of the original SIP and disapproved other portions under CAA section 110(a). See 37 FR 10842 (May 31, 1972). For some of the disapproved portions of the original SIP, EPA promulgated substitute provisions under CAA section 110(c).³ This original SIP included various rules, codified as articles within the Nevada Air Quality Regulations (NAQR), and various statutory provisions codified in chapter 445 of the Nevada Revised Statutes (NRS). In the early 1980's, Nevada reorganized and re-codified its air quality rules into sections within chapter 445 of the Nevada Administrative Code (NAC). Today, Nevada codifies its air quality regulations in chapter 445B of the NAC and codifies air quality statutes in chapter 445B (“Air Pollution”) of title 40 (“Public Health and Safety”) of the NRS.

³ Provisions that EPA promulgates under CAA section 110(c) in substitution of disapproved State provisions are referred to as Federal Implementation Plans (FIPs).

Nevada adopted and submitted many revisions to the original set of regulations and statutes in the SIP, some of which EPA approved on February 6, 1975 at 40 FR 5508; on March 26, 1975 at 40 FR 13306; on January 9, 1978 at 43 FR 1341; on January 24, 1978 at 43 FR 3278; on August 21, 1978 at 43 FR 36932; on July 10, 1980 at 45 FR 46384; on April 14, 1981 at 46 FR 21758; on August 27, 1981 at 46 FR 43141; on March 8, 1982 at 47 FR 9833; on April 13, 1982 at 47 FR 15790; on June 18, 1982 at 47 FR 26386; on June 23, 1982 at 47 FR 27070; on March 27, 1984 at 49 FR 11626. Since 1984, EPA has approved very few revisions to Nevada's applicable SIP despite numerous changes that have been adopted by the State Environmental Commission. As a result, the version of the rules enforceable by NDEP is often quite different from the SIP version enforceable by EPA.

C. What is the purpose of this proposed rule?

The purpose of this proposal is to present EPA's conclusions with respect to the State's request contained in NDEP's January 12, 2006 SIP revision submittal for rescission of nearly 200 rules and statutes in the applicable SIP. We provide our reasoning in general terms below but provide a more detailed analysis for each of the relevant rules and statutes in the technical support document (TSD) that has been prepared for this proposed rulemaking.

II. EPA's Evaluation and Action

A. How is EPA evaluating the rules and statutes requested for rescission?

Under CAA section 110(k)(2), EPA is obligated to take action on submittals by States of SIPs and SIP revisions. CAA section 110(k)(3) authorizes EPA to approve or disapprove, in whole or in severable part, such submittals. EPA has reviewed the regulations and statutes submitted on January 12, 2006 by NDEP for rescission for compliance with the CAA requirements for SIPs in general set forth in CAA section 110(a)(2) and 40 CFR part 51 and also for compliance with CAA requirements for SIP revisions in CAA sections 110(l) and 193.⁴ We have also applied the principles set forth in a policy memorandum from Johnnie L. Pearson, Chief Regional Activities Section, U.S. EPA Office of Air Quality Planning and Standards, dated February 12, 1990, and entitled, “Review of State Regulation Recodifications.” As described below, EPA is proposing approval and disapproval of portions of the State's rescission request and approval of certain replacement provisions.

⁴ CAA section 110(l) prohibits EPA from approving any SIP revision that would interfere with any applicable requirement concerning attainment and reasonable further progress, or any other applicable requirement of the CAA. CAA section 193 prohibits modifications in control requirements that were in effect before the CAA of 1990 in any nonattainment area unless the modification ensures equivalent or greater emission reductions of the nonattainment pollutant.

B. Do the rescissions meet the evaluation criteria?

We are proposing to approve most of the rules for which NDEP has requested rescission (see Table 1), but are proposing disapproval for rescission requests related to certain rules and statutes (see Table 2), and are proposing to approve submitted replacement provisions (see Table 3) for certain provisions for which we believe the State's rescission request should be disapproved.

Table 1 lists all of the SIP (or FIP) provisions for which the State's rescission request is proposed for approval along with the related submittal and approval dates. The vast majority of the provisions in table 1 represent defined terms that, although approved by EPA and therefore made part of the applicable SIP, are not relied upon by any rule or statute in the existing applicable SIP nor in any rule or statute in the submitted SIP revision and thus are unnecessary and appropriate for rescission. We are also proposing approval of the rescission request with respect to certain other rules and statutes (and one FIP) that we have found to be unnecessary because they are not needed generally in a SIP under CAA section 110(a)(2) or under 40 CFR part 51 or because there are other federally enforceable provisions that would provide equivalent or greater control. Neither NDEP's February 16, 2005 nor January 12, 2006 SIP submittal contained documentation of notice and public hearing for repeal or rescission of these provisions as required under CAA section 110(l) for all SIP revisions. Thus, we are making our proposed approval of these rescissions contingent upon receipt of this documentation from NDEP.

The TSD provides more details concerning our proposal and rationale with respect to each of the items listed in table 1.

Table 1.—SIP Provisions for Which the State's Rescission Request Is Proposed for Approval
SIP (or FIP) provision | Title | Submittal date | Approval date
NAC 445.440 | Aluminum equivalent | 10/26/82 | 03/27/84
NAC 445.442 | Anode bake plant | 10/26/82 | 03/27/84
NAC 445.443 | Asphalt concrete plant | 10/26/82 | 03/27/84
NAC 445.446 | Barite dryer | 10/26/82 | 03/27/84
NAC 445.451 | Basic oxygen process furnace | 10/26/82 | 03/27/84
NAC 445.453 | Bituminous coal | 10/26/82 | 03/27/84
NAC 445.454 | Blast furnace | 10/26/82 | 03/27/84
NAC 445.455 | Blowing tap | 10/26/82 | 03/27/84
NAC 445.456 | Brass or bronze | 10/26/82 | 03/27/84
NAC 445.459 | Calcium carbide | 10/26/82 | 03/27/84
NAC 445.460 | Calcium silicon | 10/26/82 | 03/27/84
NAC 445.461 | Capture system | 10/26/82 | 03/27/84
NAC 445.462 | Charge chrome | 10/26/82 | 03/27/84
NAC 445.463 | Charge period | 10/26/82 | 03/27/84
NAC 445.465 | Coal preparation plant | 10/26/82 | 03/27/84
NAC 445.466 | Coal processing and conveying equipment | 10/26/82 | 03/27/84
NAC 445.467 | Coal refuse | 10/26/82 | 03/27/84
NAC 445.468 | Coal storage system | 10/26/82 | 03/27/84
NAC 445.469 | Coke burn-off | 10/26/82 | 03/27/84
NAC 445.474 | Commercial fuel oil | 10/26/82 | 03/27/84
NAC 445.475 | Complex source | 10/26/82 | 03/27/84
NAC 445.476 | Condensate | 10/26/82 | 03/27/84
NAC 445.477 | Confidential information | 10/26/82 | 03/27/84
NAC 445.481 | Control device | 10/26/82 | 03/27/84
NAC 445.483 | Copper converter | 10/26/82 | 03/27/84
NAC 445.484 | Custody transfer | 10/26/82 | 03/27/84
NAC 445.485 | Cyclonic flow | 10/26/82 | 03/27/84
NAC 445.487 | Diesel fuel | 10/26/82 | 03/27/84
NAC 445.489 | Direct shell evacuation system | 10/26/82 | 03/27/84
NAC 445.490 | Drilling and production facility | 10/26/82 | 03/27/84
NAC 445.491 | Dross reverberatory furnace | 10/26/82 | 03/27/84
NAC 445.493 | Dust handling equipment | 10/26/82 | 03/27/84
NAC 445.494 | Dusts | 10/26/82 | 03/27/84
NAC 445.495 | Electric arc furnace | 10/26/82 | 03/27/84
NAC 445.496 | Electric furnace | 10/26/82 | 03/27/84
NAC 445.497 | Electric smelting furnace | 10/26/82 | 03/27/84
NAC 445.498 | Electric submerged arc furnace | 10/26/82 | 03/27/84
NAC 445.502 | Equivalent P2O5 feed | 10/26/82 | 03/27/84
NAC 445.503 | Equivalent P2O5 stored | 10/26/82 | 03/27/84
NAC 445.509 | Ferrochrome silicon | 10/26/82 | 03/27/84
NAC 445.510 | Ferromanganese silicon | 10/26/82 | 03/27/84
NAC 445.511 | Ferrosilicon | 10/26/82 | 03/27/84
NAC 445.514 | Fossil fuel-fired steam generating unit | 10/26/82 | 03/27/84
NAC 445.515 | Fresh granular triple superphosphate | 10/26/82 | 03/27/84
NAC 445.518 | Fuel gas | 10/26/82 | 03/27/84
NAC 445.519 | Fuel gas combustion device | 10/26/82 | 03/27/84
NAC 445.522 | Furnace charge | 10/26/82 | 03/27/84
NAC 445.523 | Furnace cycle | 10/26/82 | 03/27/84
NAC 445.524 | Furnace power input | 10/26/82 | 03/27/84
NAC 445.526 | Granular diammonium phosphate plant | 10/26/82 | 03/27/84
NAC 445.527 | Granular triple super-phosphate storage facility | 10/26/82 | 03/27/84
NAC 445.528 | Heat time | 10/26/82 | 03/27/84
NAC 445.529 | High-carbon ferrochrome | 10/26/82 | 03/27/84
NAC 445.530 | High level of volatile impurities | 10/26/82 | 03/27/84
NAC 445.531 | High terrain | 10/26/82 | 03/27/84
NAC 445.532 | Hydrocarbon | 10/26/82 | 03/27/84
NAC 445.534 | Isokinetic sampling | 10/26/82 | 03/27/84
NAC 445.539 | Low terrain | 10/26/82 | 03/27/84
NAC 445.543 | Meltdown and refining | 10/26/82 | 03/27/84
NAC 445.544 | Meltdown and refining period | 10/26/82 | 03/27/84
NAC 445.546 | Molybdenum | 10/26/82 | 03/27/84
NAC 445.547 | Molybdenum processing plant | 10/26/82 | 03/27/84
NAC 445.551 | Nitric acid production unit | 10/26/82 | 03/27/84
NAC 445.554 | Nuisance | 10/26/82 | 03/27/84
NAC 445.566 | Petroleum liquids | 10/26/82 | 03/27/84
NAC 445.567 | Petroleum refinery | 10/26/82 | 03/27/84
NAC 445.568 | Pneumatic coal-cleaning equipment | 10/26/82 | 03/27/84
NAC 445.572 | Potroom | 10/26/82 | 03/27/84
NAC 445.573 | Potroom group | 10/26/82 | 03/27/84
NAC 445.576 | Primary aluminum reduction plant | 10/26/82 | 03/27/84
NAC 445.577 | Primary control system | 10/26/82 | 03/27/84
NAC 445.578 | Primary copper smelter | 10/26/82 | 03/27/84
NAC 445.579 | Primary lead smelter | 10/26/82 | 03/27/84
NAC 445.580 | Primary zinc smelter | 10/26/82 | 03/27/84
NAC 445.582 | Process gas | 10/26/82 | 03/27/84
NAC 445.583 | Process upset gas | 10/26/82 | 03/27/84
NAC 445.586 | Product change | 10/26/82 | 03/27/84
NAC 445.587 | Proportional sampling | 10/26/82 | 03/27/84
NAC 445.591 | Refinery process unit | 10/26/82 | 03/27/84
NAC 445.593 | Reid vapor pressure | 10/26/82 | 03/27/84
NAC 445.594 | Reverberatory furnace | 10/26/82 | 03/27/84
NAC 445.595 | Reverberatory smelting furnace | 10/26/82 | 03/27/84
NAC 445.596 | Ringelmann chart | 10/26/82 | 03/27/84
NAC 445.598 | Roof monitor | 10/26/82 | 03/27/84
NAC 445.600 | Run-of-pile triple superphosphate | 10/26/82 | 03/27/84
NAC 445.602 | Secondary control system | 10/26/82 | 03/27/84
NAC 445.603 | Secondary lead smelter | 10/26/82 | 03/27/84
NAC 445.604 | Shop | 10/26/82 | 03/27/84
NAC 445.605 | Shop opacity | 10/26/82 | 03/27/84
NAC 445.608 | Silicomanganese | 10/26/82 | 03/27/84
NAC 445.609 | Silicomanganese zirconium | 10/26/82 | 03/27/84
NAC 445.610 | Silicon metal | 10/26/82 | 03/27/84
NAC 445.611 | Silvery iron | 10/26/82 | 03/27/84
NAC 445.614 | Sinter bed | 10/26/82 | 03/27/84
NAC 445.615 | Sintering machine | 10/26/82 | 03/27/84
NAC 445.616 | Sintering machine discharge end | 10/26/82 | 03/27/84
NAC 445.617 | Six-minute period | 10/26/82 | 03/27/84
NAC 445.619 | Smelting | 10/26/82 | 03/27/84
NAC 445.620 | Smelting furnace | 10/26/82 | 03/27/84
NAC 445.626 | Standard ferromanganese | 10/26/82 | 03/27/84
NAC 445.629 | Steel production cycle | 10/26/82 | 03/27/84
NAC 445.631 | Storage vessel | 10/26/82 | 03/27/84
NAC 445.632 | Structure, building, facility or installation | 10/26/82 | 03/27/84
NAC 445.634 | Sulfuric acid plant | 10/26/82 | 03/27/84
NAC 445.635 | Sulfuric acid production unit | 10/26/82 | 03/27/84
NAC 445.636 | Superphosphoric acid plant | 10/26/82 | 03/27/84
NAC 445.637 | Tapping | 10/26/82 | 03/27/84
NAC 445.638 | Tapping period | 10/26/82 | 03/27/84
NAC 445.639 | Tapping station | 10/26/82 | 03/27/84
NAC 445.640 | Thermal dryer | 10/26/82 | 03/27/84
NAC 445.641 | Thermit process | 10/26/82 | 03/27/84
NAC 445.642 | Total fluorides | 10/26/82 | 03/27/84
NAC 445.643 | Total smelter charge | 10/26/82 | 03/27/84
NAC 445.644 | Transfer and loading system | 10/26/82 | 03/27/84
NAC 445.645 | Triple superphosphate plant | 10/26/82 | 03/27/84
NAC 445.646 | True vapor pressure | 10/26/82 | 03/27/84
NAC 445.648 | Vapor recovery system | 10/26/82 | 03/27/84
NAC 445.652 | Weak nitric acid | 10/26/82 | 03/27/84
NAC 445.654 | Wet-process phosphoric acid plant | 10/26/82 | 03/27/84
Article 2.7.4 | Confidential Information | 12/10/76 | 08/21/78
Articles 2.10.1 and 2.10.1.1 | Appeal procedures | 01/28/72 | 05/31/72
Articles 2.10.1.2, 2.10.2 and 2.10.3 | Appeal procedures | 10/31/75 | 01/09/78
Article 3.3.4 | Stop orders | 01/28/72 | 05/31/72
Article 4.3.4 | Emissions from any mobile equipment | 01/28/72 | 05/31/72
Article 7.2.5 | Basic Refractory | 11/05/80 | 06/18/82
Article 7.2.9 | Sierra Chemical Co | 11/05/80 | 06/18/82
Article 8.1 | Primary Non-Ferrous Smelters | 06/14/74 | 02/06/75
Articles 8.1.1, 8.1.2, & 8.1.4 | Primary Non-Ferrous Smelters | 10/31/75 | 01/09/78
Article 8.3.4 | Basic | 11/05/80 | 06/18/82
Article 16.3.1.2 | Regulations controlling cement (Applying to Portland cement plants) | 12/29/78 | 06/18/82
Articles 16.3.2, 16.3.2.1, & 16.3.2.2 | Standard of particulate matter for clinker cooler (Applying to Portland cement plants) | 12/29/78 | 06/18/82
Article 16.15 | Primary lead smelters | 12/29/78 | 06/18/82
Articles 16.15.1 to 16.15.1.2 | Standard for Particulate Matter (Applying to primary lead smelters) | 12/29/78 | 06/18/82
Articles 16.15.2 to 16.15.2.2 | Standard for Opacity (Applying to primary lead smelters) | 12/29/78 | 06/18/82
Articles 16.15.3 to 16.15.3.2 | Standard for Sulfur (Applying to primary lead smelters) | 12/29/78 | 06/18/82
Article 16.15.4 | Monitoring Operations (Applying to primary lead smelters) | 12/29/78 | 06/18/82
NAC 445.662 | Confidential Information | 10/26/82 | 03/27/84
NAC 445.695 | Schedules for compliance | 10/26/82 | 03/27/84
NAC 445.698 | Appeal of director's decision: Application forms | 10/26/82 | 03/27/84
NAC 445.700 | Violations: Manner of paying fines | 10/26/82 | 03/27/84
NAC 445.723 | Existing copper smelters | 10/26/82 | 03/27/84
NAC 445.815 | Molybdenum processing plants | 09/14/83 | 03/27/84
NAC 445.816(2) (a), (b), (c), (e), (f), (g), (h), and (i) | Processing Plants for Precious Metals | 09/14/83 | 03/27/84
NAC 445.844 | Odors | 10/26/82 | 03/27/84
NRS 445.401 | Declaration of public policy | 12/29/78 | 07/10/80
Section 13(15) and (19) of Senate Bill No. 275 | [State commission of environmental protection—review recommendations of hearing board and delegation] | 01/28/72 | 05/31/72
NRS 445.466 | Commission regulations: Notice and hearing | 12/29/78 | 07/10/80
NRS 445.497 | Notice of regulatory action: Requirement; method; contents of notice | 12/29/78 | 07/10/80
40 CFR 52.1475(c), (d), and (e) | Control strategy and regulations: Sulfur oxides | N.A. | 02/06/75

Table 2 lists the rules and statutes for which the State's rescission request is proposed for disapproval along with the related submittal and approval dates. Generally, we believe that retention of these provisions is appropriate to satisfy certain specific requirements for SIPs under CAA section 110(a)(2) or that retention is appropriate because the State has not provided sufficient documentation to show that rescission would not interfere with continued attainment of the national ambient air quality standards (NAAQS) as required under CAA section 110(l). The TSD provides more details concerning our proposal and rationale with respect to each of the items listed in table 2.

Table 2.—SIP Provisions for Which the State's Rescission Request Is Proposed for Disapproval
SIP provision | Title | Submittal date | Approval date
NAC 445.436 | Air contaminant | 10/26/82 | 03/27/84
NAC 445.570 | Portland cement plant | 10/26/82 | 03/27/84
Article 1.171 | Single source | 12/10/76 | 08/21/78
NAC 445.630 | Stop order | 10/26/82 | 03/27/84
NAC 445.660 | Severability | 10/26/82 | 03/27/84
NAC 445.663 | Concealment of emissions prohibited | 10/26/82 | 03/27/84
NAC 445.665 | Hazardous emissions: Order for reduction or discontinuance | 10/26/82 | 03/27/84
NAC 445.696 | Notice of violations; appearance before commission | 10/26/82 | 03/27/84
NAC 445.697 | Stop Orders | 10/26/82 | 03/27/84
NAC 445.764 | Reduction of employees' pay because of use of system prohibited | 10/26/82 | 03/27/84
NAC 445.816(3), (4) & (5) | Processing Plants for Precious Metals | 09/14/83 | 03/27/84
NRS 445.451* | State environmental commission: Creation; composition; chairman; quorum; salary, expenses of members; disqualification of members; technical support | 12/29/78 | 07/10/80
NRS 445.456* | Department designated as state air pollution control agency | 12/29/78 | 07/10/80
NRS 445.473* | Department powers and duties | 12/29/78 | 07/10/80
NRS 445.476* | Power of department representatives to enter and inspect premises | 12/29/78 | 07/10/80
NRS 445.498* | Appeals to commission; Notice of appeal | 12/29/78 | 07/10/80
NRS 445.499* | Appeals to commission; Hearings | 12/29/78 | 07/10/80
NRS 445.501* | Appeals to commission: Appealable matters; commission action; rules for appeals | 12/29/78 | 07/10/80
NRS 445.526* | Violations: Notice and order by director; hearing; alternative procedures | 09/10/75 | 01/24/78
NRS 445.529* | Violations: Injunctive relief | 12/29/78 | 07/10/80
NRS 445.576* | Confidential information: Definitions; limitations on use; penalty for unlawful disclosure or use | 09/10/75 | 01/24/78
NRS 445.581* | Power of department officers to inspect, search premises; search warrants | 12/29/78 | 07/10/80
NRS 445.596* | Private rights and remedies not affected | 12/29/78 | 07/10/80
NRS 445.598* | Provisions for transition in administration | 12/29/78 | 07/10/80
NRS 445.601* | Civil penalties; fines not bar to injunctive relief, other remedies; disposition of fines | 12/29/78 | 07/10/80
Note: Asterisk (*) indicates applicable SIP provisions for which replacement provisions are being proposed for approval herein (see table 3, below).

Table 3 lists the submitted provisions for which EPA is proposing approval and that, upon final approval, will supersede corresponding outdated provisions in the applicable SIP. In its January 12, 2006 SIP revision submittal, NDEP requests EPA to approve new statutory provisions to replace any outdated State statutory provisions for which EPA determines that the rescission request should not be approved. As noted above, we are proposing to disapprove requests for rescission of certain statutory provisions, and thus, consistent with the State's request, we are proposing approval of 14 specific statutory provisions, submitted by NDEP in appendix III-E of the January 12, 2006 SIP revision submittal, to replace the corresponding statutory provisions in the applicable SIP (see table 3, below). In general, we find that the current statutory provisions listed in table 3 essentially mirror the corresponding outdated provisions in the applicable SIP and thus would not relax any existing requirement.⁵

⁵ Because the current statutory provisions essentially mirror the outdated provisions, we view our proposed approval of the current statutory provisions as a re-codification and, as such, we are not taking action to remedy pre-existing deficiencies in the applicable SIP. We note, however, that one of the provisions, NRS 445B.200 (“Creation and composition; chairman; quorum; compensation of members and employees; disqualification; technical support”), does not meet the related SIP requirements (CAA section 110(a)(2)(E)(ii) and CAA section 128) and could be the subject of some future EPA rulemaking, such as one under CAA section 110(k)(5).

The TSD provides more details concerning our proposal and rationale with respect to each of the items listed in table 3.

Table 3.—Submitted Provisions Which Are Proposed for Approval as Replacements for Outdated Provisions in the Applicable SIP
Submitted provisions | Title | Submittal date
NRS 445B.200 | Creation and composition; chairman; quorum; compensation of members and employees; disqualification; technical support | 01/12/06
NRS 445B.205 | Department designated as state air pollution control agency | 01/12/06
NRS 445B.230 | Powers and duties of department | 01/12/06
NRS 445B.240 | Power of representatives of department to enter and inspect premises | 01/12/06
NRS 445B.340 | Appeals to commission: notice of appeal | 01/12/06
NRS 445B.350 | Appeals to commission: hearings | 01/12/06
NRS 445B.360 | Appeals to commission: appealable matters; action by commission; regulations | 01/12/06
NRS 445B.450 | Notice and order by director; hearing; alternative procedures | 01/12/06
NRS 445B.460 | Injunctive relief | 01/12/06
NRS 445B.570 | Confidentiality and use of information obtained by department; penalty | 01/12/06
NRS 445B.580 | Officer of department may inspect or search premises; search warrant | 01/12/06
NRS 445B.600 | Private rights and remedies not affected | 01/12/06
NRS 445B.610 | Provisions for transition in administration | 01/12/06
NRS 445B.640 | Levy and disposition of administrative fines; additional remedies available; penalty | 01/12/06

C. Public Comment and Proposed Action

Under CAA section 110(k)(3), EPA is proposing approval of most of the State of Nevada's requests to rescind nearly 200 rules and statutes from the applicable SIP but is proposing disapproval of some of those requests. EPA is also proposing approval of certain statutory provisions submitted by the State of Nevada as replacements for outdated provisions in the applicable SIP. The approval proposed herein is contingent upon receipt of certain public notice and hearing documentation from the State of Nevada. We will accept comments from the public on this proposal for the next 30 days.

Unless we receive convincing new information during the comment period, we intend to publish a final approval action that will rescind the rules and statutes shown in table 1, above, from the applicable SIP (contingent upon receipt of public notice and hearing documentation), retain certain rules and statutes in the applicable SIP (shown in table 2, above), and approve certain replacement provisions (shown in table 3, above).

III. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This action merely proposes to approve or disapprove a State request for rescission and to approve certain replacement provisions as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve or disapprove a State request for rescission and to approve certain replacement provisions implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Lead, Particulate matter, Reporting and recordkeeping requirements, Sulfur oxides.

Authority: 42 U.S.C. 7401 et seq.

Dated: August 16, 2006.
Jane Diamond,
Acting Regional Administrator, Region IX.

[FR Doc. E6-14214 Filed 8-25-06; 8:45 am]

BILLING CODE 6560-50-P